DEPARTMENT OF COMMERCE

National Oceanic and Atmospheric Administration

[I. D. 052004C]

Fisheries of the Exclusive Economic Zone Off Alaska; Application for an Exempted Fishing Permit

AGENCY: National Marine Fisheries Service (NMFS), National Oceanic and Atmospheric Administration (NOAA), Commerce.

ACTION: Notice of receipt of an application for an exempted fishing permit.

SUMMARY: NMFS has received an application for an exempted fishing permit (EFP) from the Washington Sea Grant Program (WSGP). If granted, this EFP would authorize the applicant to conduct an experiment to evaluate the integrated weight groundline as a potential seabird avoidance measure in the fall 2004 Pacific cod hook-and-line fishery in the Bering Sea and Aleutian Islands Management Area (BSAI). The project is intended to promote the objectives of the Fishery Management Plan for the Groundfish Fishery of the Bering Sea and Aleutian Islands Area (FMP) by reducing fishery interactions with the endangered short-tailed albatross (Phoebastria albatrus) and other seabird species.

ADDRESSES: Copies of the EFP application may be requested from Sue Salveson, Assistant Regional Administrator for Sustainable Fisheries, Alaska Region, NMFS, Attn: Lori Durall by: mail to P. O. Box 21668, Juneau, AK 99802; fax to 907-586-7557; or email to Lori.Durall@noaa.gov.

FOR FURTHER INFORMATION CONTACT: Kim Rivera, 907-586-7424 or Kim.Rivera@noaa.gov.

SUPPLEMENTARY INFORMATION: NMFS manages the domestic groundfish fisheries in the BSAI under the FMP. The North Pacific Fishery Management Council (Council) prepared the FMP under the Magnuson-Stevens Fishery Conservation and Management Act (Magnuson-Stevens Act). Regulations governing the groundfish fisheries of the BSAI appear at 50 CFR parts 600 and 679. The FMP and the implementing regulations at §§ 679.6 and 600.745(b) authorize the issuance of EFPs to allow fishing that would otherwise be prohibited. Procedures for issuing EFPs are contained in the implementing regulations.

NMFS received an application for an EFP from the WSGP. The purpose of this EFP is to authorize experimental fishing using integrated weight groundline to evaluate its effectiveness as a potential new seabird avoidance measure. The application calls for testing integrated weight groundlines against unweighted groundlines, with and without paired streamer lines. This proposed effort follows up on work that was completed in Alaska in 2002, and compliments efforts taking place in other fisheries. Information from this experiment could ultimately result in better and more effective seabird avoidance measures. The hook-and-line fishing industry appears especially interested in this experiment, because it may provide them a better tool with which to avoid the incidental catch of the endangered short-tailed albatross and other seabird species. In addition, potential exists for improved fishing efficiency with better gear handling characteristics and increased target catch rates resulting from getting baited hooks down more quickly. The U.S. Fish and Wildlife Service issued a Biological Opinion (September 2003) that includes a conservation recommendation for NMFS to support research efforts to develop new and novel deterrent technologies such as integrated weight groundlines. This experiment would fulfill such a recommendation.

The goal of the experiment is to reduce the incidental catch of the endangered short-tailed albatross and other seabird species in ways that are consistent with Magnuson-Stevens Act National Standard 9 which requires conservation and management measures to minimize bycatch and bycatch mortality and that the effects on birds should be considered when selecting these measures. A preliminary WSGP investigation in 2002 evaluated four weightings of integrated weight groundline (25, 50, 75, and 100 g/m). The four weighting treatments were compared to a control of unweighted groundline in the sablefish fishery in the Aleutian Islands and the Pacific cod fishery in the Gulf of Alaska. Preliminary results strongly suggest that 50 g/m line was the optimal weighting. It was the most practical gear in terms of operational performance in mechanical baiting (auto-bait) longline systems and it sank quickly beyond the range of seabirds.

Based on these initial results, WSGP proposes to continue this work by comparing the catch rates of all species, the abundance and behavior of seabirds, and the sink rate of groundlines under three scenarios: 50 g/m integrated weight groundline, and un-weighted groundlines with and without paired streamer lines. Regulations at 50 CFR § 679.24(e)(4)(ii)(c) require the use of paired streamer lines by vessels greater than 55 ft (16.8 m) length overall. Thus, an EFP is necessary to conduct the experimental control treatments that call for the experimental gear to be deployed in the absence of paired streamer lines, to allow fishing in a way that would otherwise be prohibited. Work will take place on two freezer-longliner vessels using auto-bait systems in the Pacific cod fishery in the BSAI during the fall of 2004, and during 2005, if unforeseen circumstances prohibit completion of the work in 2004.

In accordance with § 679.6, NMFS has determined that the application warrants further consideration and has initiated consultation with the Council by forwarding the application to the Council for consultation. The Council will consider the application during its June 9-15, 2004, meeting which will be held at the Benson Hotel in Portland, Oregon. While the applicant has been invited to appear in support of the application, all interested parties may comment on the application at the meeting during public testimony.

The vessels that would conduct the experimental fishing were not identified on the application, but will be identified on the EFP, once they have been selected for the project. The NMFS Regional Administrator may consider and attach additional terms and conditions to the EFP that are consistent with the purpose of the experiment. Public comment may help determine such conditions.

A copy of the application is available for review from NMFS (see ADDRESSES).

Authority: 16 U.S.C. 1801 et seq.

Dated: May 20, 2004.
Tracey L. Thompson,
Acting Director, Office of Sustainable Fisheries, National Marine Fisheries Service.

[FR Doc. E4-1208 Filed 5-24-04; 8:45 am]

BILLING CODE 3510-22-S